DEPARTMENT OF HOMELAND SECURITY

[Docket No. DHS-2018-0051]

Office for Interoperability and Compatibility Seeks Nominations for the Project 25 Compliance Assessment Program (P25 CAP) Advisory Panel

AGENCY: Science and Technology Directorate, DHS.

ACTION: Notice.

SUMMARY: The Department of Homeland Security (DHS) is seeking nominations and expressions of interest for filling one open position on the Project 25 (P25) Compliance Assessment Program (CAP) Advisory Panel (AP). The P25 CAP AP holds quarterly meetings with the public on topics related to P25 CAP. The next meeting is scheduled for the October 2018 timeframe.

DATES: All responses must be received by October 31, 2018 at the address listed below.

ADDRESSES: Expressions of interest and nominations shall be submitted to P25CAP@hq.dhs.gov.

Instructions: All submissions received must include the words “Department of Homeland Security” and DHS-2018-0051.

FOR FURTHER INFORMATION CONTACT: Sridhar Kowdley, Program Manager, Office for Interoperability and Compatibility, Science and Technology Directorate, Department of Homeland Security, 202-254-8804, Sridhar.Kowdley@hq.dhs.gov.

SUPPLEMENTARY INFORMATION:

Background

P25 is a standards development process for the design, manufacture, and evaluation of interoperable digital two-way land mobile radio communications products created by and for public safety professionals. The goal of P25 is to specify formal standards for interfaces and features between the various components of a land mobile radio system commonly used by public safety agencies in portable handheld and mobile vehicle-mounted devices. The P25 standard enables interoperability among different suppliers' products.

P25 CAP was developed by DHS to test equipment designed to comply with P25 standards. P25 CAP ensures that communications equipment that is declared by the supplier to be P25-compliant, in fact, is tested against the standards with publicly published results. The program provides public safety agencies with evidence that the communications equipment they are purchasing is tested against and complies with the P25 standards for performance, conformance, and interoperability. The P25 CAP AP provides a resource by which DHS gains insight into the collective interest of organizations that procure P25-compliant equipment and a resource for DHS to continue to establish the policies of the P25 CAP, along with assisting the DHS Office for Interoperability and Compatibility (OIC) in the administration of the program.

P25 CAP is a voluntary program that provides a mechanism for the recognition of testing laboratories based on internationally accepted standards. It identifies competent P25 CAP testing laboratories for DHS-recognition through a robust assessment process and promotes the acceptance of compliant test results from these laboratories.

As a voluntary program, P25 CAP allows suppliers to publicly attest to their products' compliance with a selected group of requirements through Summary Test Report (STR) and Supplier's Declaration of Compliance (SDOC) documents based on the Detailed Test Report (DTR) from the DHS-recognized laboratory(ies) that performed the product testing. In turn, DHS makes these documents available to the first response community to inform their purchasing decisions via the dhs.gov/science-and-technology/p25-cap website.

Membership

The Science and Technology Directorate (S&T) of DHS formed the P25 CAP AP to provide S&T with the views of active local, state, tribal, territorial and Federal government officials who use or whose offices use portable handheld and mobile vehicle-mounted radios. Those government officials selected to participate in the P25 CAP AP are selected based on their experience with the management and procurement of land mobile radio systems or knowledge of conformity assessment programs and methods. The OIC selection process balances viewpoints required to effectively address P25 CAP issues under consideration. To fill one open position on the P25 CAP AP, OIC is particularly interested in receiving nominations and expressions of interest from individuals in the following categories:

• State, tribal, territorial, or local government agencies and organizations with expertise in communications issues and technologies.

• Federal government agencies with expertise in communications or homeland security matters.

While OIC can call for a meeting of the P25 CAP AP as it deems necessary and appropriate, for member commitment and planning purposes, it is anticipated that the P25 CAP AP will meet approximately 3-4 times annually in their role of providing guidance and support to the P25 CAP.

Those selected to serve on the P25 CAP AP will be required to sign a gratuitous services agreement and will not be paid or reimbursed for their participation; however, DHS S&T will, subject to the availability of funds, reimburse the travel expenses associated with the participation of non-Federal members in accordance with Federal Travel Regulations. OIC reserves the right to select primary and alternate members to the P25 CAP AP for terms appropriate for the accomplishment of the Board's mission. Members serve at the pleasure of the OIC Director.

Registered lobbyists pursuant to the Lobbying Disclosure Act of 1995 are not eligible for membership on the P25 CAP AP and will not be considered.

Roles and Responsibilities

The duties of the P25 CAP AP will include providing recommendations of its individual members to OIC regarding actions and steps OIC could take to promote the P25 CAP. The duties of the P25 CAP AP may include but are not limited to its members reviewing, commenting on, and advising on:

a. The laboratory component of the P25 CAP under established, documented laboratory recognition guidelines.

b. Proposed Compliance Assessment Bulletins (CABs).

c. Proposed updates to previously approved CABs, as Notices of Proposed CABs, to enable comment and input on the proposed CAB modifications.

d. OIC updates to existing test documents or establishing new test documents for new types of P25 equipment.

e. Best practices associated with improvement of the policies and procedures by which the P25 CAP operates.

f. Existing test documents including but not limited to SDOCs and STRs posted on the dhs.gov/science-and-technology/p25-cap website.

g. Proposed P25 user input for improving functionality through the standards-making process.

Nominations/Expressions of Interest Procedures and Deadline

Nominations and expressions of interest shall be received by OIC no later than October 31, 2018 at the address P25CAP@hq.dhs.gov. Nominations and expressions of interest received after this date shall not be considered. All submissions received must include the words “Department of Homeland Security” and DHS-2018-0051. Each nomination and expression of interest must provide the following information as part of the submission:

• A cover letter that highlights a history of proven leadership within the public safety community including, if applicable, a description of prior experience with law enforcement, fire response, emergency medical services, emergency communications, National Guard, or other first responder roles and how the use of communications in those roles qualifies the nominee to participate on the P25 CAP AP.

• Name, title, and organization of the nominee.

• A resume summarizing the nominee's contact information (including the mailing address, phone number, facsimile number, and email address), qualifications, and expertise to explain why the nominee should be appointed to the P25 CAP AP.

• The resume must demonstrate a minimum of ten years (10) years of experience directly using P25 systems in an operational environment in support of established public safety communications or from a system implementer/administrator perspective; a bachelor's or associate degree with an emphasis in communications and engineering may be substituted for three (3) years, a master's/professional certification for seven (7) years, and a Ph.D. for ten (10) years of the requirement.

• The resume must discuss the nominee's familiarity with the current P25 CAP, including documents that are integral to the process such as the SDOCs, STRs, and CABs referenced in this notice.

• A letter from the nominee's supervisor indicating the nominee's agency's support for the nominee to participate on the P25 CAP AP as a representative from their respective agency.

• Disclosure of Federal boards, commissions, committees, task forces, or work groups on which the nominee currently serves or has served within the past 12 months.

• A statement confirming that the nominee is not registered as a lobbyist pursuant to the Lobbying Disclosure Act of 1995.

Additional information can be found as follows: Project 25 Compliance Assessment Program and Compliance Assessment Bulletins. https://www.dhs.gov/science-and-technology/bulletins.

Dated: September 24, 2018.
William N. Bryan,
Senior Official Performing the Duties of Under Secretary for Science and Technology, Department of Homeland Security.

[FR Doc. 2018-21241 Filed 9-28-18; 8:45 am]

BILLING CODE 9110-9F-P